DEPARTMENT OF VETERANS AFFAIRS

Advisory Committee on the Readjustment of Veterans, Notice of Meeting

The Department of Veterans Affairs (VA) gives notice under the Federal Advisory Committee Act, 5 U.S.C., ch. 10., that the Advisory Committee on the Readjustment of Veterans will meet in person on November 7, 2023-November 9, 2023. The meeting sessions will be held at the Lafayette Building, 811 Vermont Avenue NW, Conference Room 3166, Washington, DC 20009. The sessions will begin and end as follows:

Dates | Times
Tuesday, November 7, 2023 | 8:00 a.m. to 5:00 p.m. Eastern Standard Time (EST).
Wednesday, November 8, 2023 | 8:00 a.m. to 5:00 p.m. EST.
Thursday, November 9, 2023 | 8:00 a.m. to 12:00 p.m. EST.

The meeting sessions are open to the public.

The purpose of the Committee is to advise the VA regarding the provision by VA of benefits and services to assist Veterans in the readjustment to civilian life. In carrying out this duty, the Committee shall take into account the needs of Veterans who served in combat theaters of operation. The Committee assembles, reviews and assesses information relating to the needs of Veterans readjusting to civilian life and the effectiveness of VA services in assisting Veterans in that readjustment.

The Committee, comprised of 14 subject matter experts, advises the Secretary, through the VA Readjustment Counseling Service, on the provision by VA of benefits and services to assist Veterans in the readjustment to civilian life. In carrying out this duty, the Committee assembles, reviews and assesses information relating to the needs of Veterans readjusting to civilian life and the effectiveness of VA services in assisting Veterans in that readjustment, specifically taking into account the needs of Veterans who served in combat theaters of operation.

No time will be allotted for receiving oral comments from the public; however, the committee will accept written comments from interested parties on issues outlined in the meeting agenda or other issues regarding the readjustment of Veterans. Parties should contact Mr. Richard Barbato, via email at VHARCSPlanningPolicy@va.gov or at Department of Veterans Affairs, Readjustment Counseling Service (10RCS), 810 Vermont Avenue, Washington, DC 20420.

Any member of the public seeking additional information should contact Mr. Barbato at the email address noted above.

Dated: August 1, 2023.
Jelessa M. Burney,
Federal Advisory Committee Management Officer.

[FR Doc. 2023-16683 Filed 8-3-23; 8:45 am]

BILLING CODE 8320-01-P